DEPARTMENT OF EDUCATION

Applications for New Awards; Postsecondary Programs for Students with Intellectual Disabilities-National Technical Assistance and Dissemination Center Program

AGENCY: Office of Postsecondary Education, Department of Education.

ACTION: Notice.

SUMMARY: The Department of Education (Department) is issuing a notice inviting applications (NIA) for a new award for fiscal year (FY) 2021 for the Postsecondary Programs for Students with Intellectual Disabilities-National Technical Assistance and Dissemination Center (PPSID-NTAD) program, Assistance Listing Number 84.407C. This notice relates to the approved information collection under OMB control number 1894-0006.

DATES: Applications available: August 5, 2021.

Deadline for transmittal of applications: September 7, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Shedita Alston, U.S. Department of Education, 400 Maryland Avenue SW, Room 2B194, Washington, DC 20202-4260. Telephone: (202) 453-7090. Email: Shedita.Alston@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Postsecondary Programs for Students with Intellectual Disabilities-National Technical Assistance and Dissemination Center (PPSID-NTAD) program provides for the establishment of a technical assistance center to translate and disseminate research and best practices for all institutions of higher education (IHEs), including those not participating in the Transition and Postsecondary Programs for Students with Intellectual Disabilities (TPSID) program, for improving inclusive postsecondary education for students with intellectual disabilities (SWIDs). This center will help ensure that knowledge and products gained through research will reach more IHEs and students and improve postsecondary educational opportunities SWIDs.

Background: Historically in the United States, the education, employment, and independent living outcomes for individuals with intellectual disabilities have lagged that of students without disabilities. According to Migliore, Butterworth, and Hart (2009), SWIDs have the lowest rates of education, work, or preparation for work after high school of all disability groups.¹ Since 2010, through the grants that the Department has awarded under the TPSID program, we have seen improvements in services for students with disabilities, including institutions of higher education more frequently offering specially designed instruction in inclusive and integrated settings to support improved academic, functional, and social outcomes, which, in turn, lead to improved employment and independent living outcomes.

¹ A. Migliore, J. Butterworth, and D. Hart, Fast facts: Postsecondary education and employment outcomes for youth with intellectual disabilities (No. 1). Boston: Institute for Community Inclusion.

The Department is particularly interested in broadening the dissemination of information that is based on the work that has been completed by projects that were funded under the TPSID program (Assistance Listing Number 84.407A). The Department seeks to assist other IHEs in learning about high-impact practices for these students and sharing them with the widest audience possible, including other colleges and universities, local educational agencies (LEAs), families and students, and other stakeholders who may be interested in developing, expanding, or improving inclusive higher education for SWIDs. Through the dissemination of such information, including research and promising practices in the field of postsecondary education for SWIDs, the PPSID-NTAD program seeks to better support comprehensive transition and postsecondary education programs across the country (including those funded under the TPSID program) as they work to increase the number of individuals with intellectual disabilities who are academically, functionally, and socially prepared to obtain and retain competitive employment in integrated settings and to live independently as full and active members of their communities.

Priorities: This notice contains one absolute priority and one competitive preference priority. We are establishing these priorities for the FY 2021 grant competition and any subsequent year in which we make awards from the list of unfunded applications from this competition in accordance with section 437(d)(1) of the General Education Provisions Act (GEPA), 20 U.S.C. 1232 (d)(1).

Absolute Priority: For FY 2021 and any subsequent year in which we make awards from the list of unfunded applications from this competition, this priority is an absolute priority. Under 34 CFR 75.105(c)(3) we consider only applications that meet this priority.

This absolute priority is:

The purpose of this priority is to fund a cooperative agreement to establish and operate a National Technical Assistance Center for Postsecondary Programs for Students with Intellectual Disabilities (Center). This Center will translate and disseminate to institutions of higher education (IHEs) research and best practices for improving inclusive postsecondary education for (SWIDs).

The Center must be designed to achieve, at a minimum, the following expected outcomes:

(a) Increased accessibility to postsecondary education courses, including courses conducted in-person and through remote learning, for SWIDs.

(b) Increased participation of SWIDs in the same curriculum offered to matriculating college students without intellectual disabilities.

(c) Increased availability for SWIDs of the same campus services and events offered to matriculating students without intellectual disabilities (such as academic and career advising, on-campus residential living that is not restricted to matriculating college students, employment, and student orientation).

(d) An increased number of IHEs offering comprehensive transition programs (CTPs) for SWIDs.

(e) An increased number of SWIDs obtaining a meaningful postsecondary credential each year.

In responding to this priority, the applicant must describe—

(a) How the Center will translate and disseminate to all IHEs, including those not participating in the TPSID program and those not currently offering Comprehensive Transition Programs, research and best practices for improving inclusive postsecondary education for SWIDs;

(b) How the Center will assist IHEs, including IHEs that do not currently have CTPs, in the development, evaluation, and continuous improvement of such programs;

(c) How the Center will assist IHEs in the expansion of inclusive practices for SWIDs across a wide range of academic programs;

(d) How the Center will promote improved academic, social, independent living, and self-advocacy outcomes for SWIDs;

(e) How the Center will increase the capacity of faculty, campus service providers, and families to meet the needs of SWIDs; and

(f) How the Center will coordinate with other federally funded technical assistance centers to avoid duplication of activities.

Competitive Preference Priority: For FY 2021 and any subsequent year in which we make awards from the list of unfunded applications from this competition, this priority is a competitive preference priority. Under 34 CFR 75.105(c)(2)(i), we award up to an additional six points to an application, depending on how well the application meets this priority.

This priority is:

Projects designed to develop and sustain partnerships between IHEs, businesses, LEAs, vocational rehabilitation agencies, community-based organizations, or other non-profit organizations to support improved academic, social, independent living, and self-advocacy outcomes for SWIDs.

Definitions: The following definitions apply to this competition. We are establishing the definition of “remote learning” in this notice for the FY 2021 grant competition and any subsequent year in which we make awards from the list of unfunded applications from this competition, in accordance with section 437(d)(1) of GEPA. The definitions of “comprehensive transition and postsecondary program for students with intellectual disabilities” and “student with an intellectual disability” are from section 760 of the Higher Education Act of 1965, as amended (HEA) (20 U.S.C. 1140). The definition of “institution of higher education” is from section 101 of the HEA (20 U.S.C. 1001). The term “cooperative agreement” is from 2 CFR 200.24.

Comprehensive transition and postsecondary program for students with intellectual disabilities means a degree, certificate, or nondegree program that—

(1) Is offered by an IHE;

(2) Is designed to support SWIDs who are seeking to continue academic, career and technical, and independent living instruction at an IHE in order to prepare for gainful employment;

(3) Includes an advising and curriculum structure;

(4) Requires SWIDs to participate on not less than a half-time basis as determined by the institution, with such participation focusing on academic components, and occurring through one or more of the following activities:

(i) Regular enrollment in credit-bearing courses with nondisabled students offered by the institution.

(ii) Auditing or participating in courses with nondisabled students offered by the institution for which the student does not receive regular academic credit.

(iii) Enrollment in noncredit-bearing, nondegree courses with nondisabled students.

(iv) Participation in internships or work-based training in settings with nondisabled individuals; and

(5) Requires SWIDs to be socially and academically integrated with non-disabled students to the maximum extent possible.

Cooperative agreement means a legal instrument of financial assistance between a Federal awarding agency and a recipient or a pass-through entity and a subrecipient that, consistent with 31 U.S.C. 6302-6305:

(1) Is used to enter into a relationship the principal purpose of which is to transfer anything of value to carry out a public purpose authorized by a law of the United States (see 31 U.S.C. 6101(3)); and not to acquire property or services for the Federal Government or pass-through entity's direct benefit or use;

(2) Is distinguished from a grant in that it provides for substantial involvement of the Federal awarding agency in carrying out the activity contemplated by the Federal award.

(3) The term does not include:

(i) A cooperative research and development agreement as defined in 15 U.S.C. 3710a; or

(ii) An agreement that provides only:

(A) Direct United States Government cash assistance to an individual;

(B) A subsidy;

(C) A loan;

(D) A loan guarantee; or

(E) Insurance.

Institution of higher education—

(1) Means an educational institution in any State that—

(i) Admits as regular students only persons having a certificate of graduation from a school providing secondary education, or the recognized equivalent of such a certificate, or persons who meet the requirements of section 484(d) of the HEA;

(ii) Is legally authorized within such State to provide a program of education beyond secondary education;

(iii) Provides an educational program for which the institution awards a bachelor's degree or provides not less than a 2-year program that is acceptable for full credit toward such a degree, or awards a degree that is acceptable for admission to a graduate or professional degree program, subject to review and approval by the Secretary;

(iv) Is a public or other nonprofit institution; and

(v) Is accredited by a nationally recognized accrediting agency or association, or if not so accredited, is an institution that has been granted pre-accreditation status by such an agency or association that has been recognized by the Secretary for the granting of pre-accreditation status, and the Secretary has determined that there is satisfactory assurance that the institution will meet the accreditation standards of such an agency or association within a reasonable time.

(2) Additional institutions included for the purposes of the HEA, other than title IV. The term “institution of higher education” also includes—

(i) Any school that provides not less than a 1-year program of training to prepare students for gainful employment in a recognized occupation and that meets the provision of paragraphs (i), (ii), (iv), and (v) of paragraph (1); and

(ii) A public or nonprofit private educational institution in any State that, in lieu of the requirement in paragraph (1)(i), admits as regular students individuals—

(A) Who are beyond the age of compulsory school attendance in the State in which the institution is located; or

(B) Who will be dually or concurrently enrolled in the institution and a secondary school.

Remote learning means programming where at least part of the learning occurs away from the physical building in a manner that addresses a learner's education needs. Remote learning may include online, hybrid/blended learning, or non-technology-based learning (e.g., lab kits, project supplies, paper packets).

Student with an intellectual disability means a student—

(1) With a cognitive impairment, characterized by significant limitations in—

(i) Intellectual and cognitive functioning; and

(ii) Adaptive behavior as expressed in conceptual, social, and practical adaptive skills; and

(2) Who is currently, or was formerly, eligible for a free appropriate public education under the Individuals with Disabilities Education Act.

Waiver of Proposed Rulemaking: Under the Administrative Procedure Act (5 U.S.C. 553), the Department generally offers interested parties the opportunity to comment on proposed priorities. Section 437(d)(1) of GEPA, however, allows the Secretary to exempt from rulemaking requirements regulations governing the first grant competition under a new or substantially revised program authority. To ensure timely grant awards, the Secretary has decided to forgo public comment on the priorities and definitions under section 437(d)(1) of GEPA. These priorities and definitions will apply to the FY 2021 grant competition and any subsequent year in which we make awards from the list of unfunded applications from this competition.

Program Authority: Departments of Labor, Health and Human Services, and Education and Related Agencies Appropriations Act, 2021, H.R. 7614, 116th Congress (2020); the explanatory statement accompanying H.R. 7614, Congressional Record, December 21, 2020, H8635.

Note: Projects will be awarded and must be operated in a manner consistent with the nondiscrimination requirements contained in the Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Cooperative agreement.

Estimated Available Funds: $1,980,000.

Contingent upon the availability of funds and the quality of applications, we may make additional awards in subsequent years from the list of unfunded applications from this competition.

Estimated Average Size of Award: $1,980,000.

Maximum Award: We will not make an award exceeding $1,980,000 for a project period of 12 months.

Estimated Number of Awards: 1.

Note: The Department is not bound by any estimates in this notice.

Project Period: Up to 36 months.

III. Eligibility Information

1. Eligible Applicants: We are establishing the following eligibility requirement for the FY 2021 grant competition and any subsequent year in which we make awards from the list of unfunded applications from this competition, in accordance with section 437(d) (1) of GEPA. To be eligible to apply for a grant under this competition, the applicant must be an entity, or partnership of entities, that has demonstrated expertise in the fields of—

(a) Higher education;

(b) The education of SWIDS;

(c) The development of comprehensive transition and postsecondary programs for students SWIDs; and

(d) Evaluation and technical assistance.

2. a. Cost Sharing or Matching: This competition does not require cost sharing or matching.

b. Administrative Cost Limitation: This program does not include any program-specific limitation on administrative expenses. All administrative expenses must be reasonable and necessary and conform to Cost Principles described in 2 CFR part 200 subpart E of the Uniform Guidance.

c. Indirect Cost Rate Information: This program uses a restricted indirect cost rate. For more information regarding indirect costs, or to obtain a negotiated indirect cost rate, please see www2.ed.gov/about/offices/list/ocfo/intro.html.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contains requirements and information on how to submit an application.

2. Intergovernmental Review: This program is subject to Executive Order 12372 and the regulations in 34 CFR part 79. However, under 34 CFR 79.8 (a), we waive intergovernmental review in order to make awards by September 30, 2021.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, references, and captions as well as all text in charts, tables, figures, and graphs.

• Use a font that is either 12 point or larger, and no smaller than 10 pitch (characters per inch).

• Use one of the following fonts: Times New Roman, Courier, Courier New, or Arial.

The recommended page limit does not apply to the cover sheet; the budget section, including the narrative budget justification; the assurances and certifications; or the one-page abstract. However, the recommended page limit does apply to all the application narrative.

Note: The Budget Information-Non-Construction Programs Form (ED 524) Sections A-C are not the same as the narrative response to the Budget section of the selection criteria.

V. Application Review Information

1. Selection Criteria: The following selection criteria for this program are from 34 CFR 75.210. The points assigned to each criterion are indicated in parentheses. Applicants may earn up to a total of 100 points for the selection criteria and up to six additional points for the competitive preference priority.

(a) Need for project. (up to 10 points)

(1) The Secretary considers the need for the proposed project.

(2) In determining the need for the proposed project, the Secretary considers the following factors:

(i) The magnitude or severity of the problem to be addressed by the proposed project.

(ii) The extent to which specific gaps or weaknesses in services, infrastructure, or opportunities have been identified and will be addressed by the proposed project, including the nature and magnitude of those gaps or weaknesses.

(b) Significance. (up to 10 points)

(1) The Secretary considers the significance of the proposed project.

(2) In determining the significance of the proposed project, the Secretary considers the following factors:

(i) The extent to which the results of the proposed project are to be disseminated in ways that will enable others to use the information or strategies.

(ii) The extent to which the proposed project involves the development or demonstration of promising new strategies that build on, or are alternatives to, existing strategies.

(c) Quality of the project design. (up to 15 points)

(1) The Secretary considers the quality of the design of the proposed project.

(2) In determining the quality of the design of the proposed project, the Secretary considers the following factors:

(i) The extent to which the design of the proposed project is appropriate to, and will successfully address, the needs of the target population or other identified needs.

(ii) The extent to which the design of the proposed project includes a thorough, high-quality review of the relevant literature, a high-quality plan for project implementation, and the use of appropriate methodological tools to ensure successful achievement of project objectives.

(iii) The extent to which the design of the proposed project reflects up-to-date knowledge from research and effective practice.

(d) Quality of project services. (up to 15 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project are appropriate to the needs of the intended recipients or beneficiaries of those services.

(ii) The likelihood that the services to be provided by the proposed project will lead to improvements in the skills necessary to gain employment or build capacity for independent living.

(iii) The extent to which the services to be provided by the proposed project reflect up-to-date knowledge from research and effective practice.

(e) Quality of project personnel. (up to 10 points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(f) Adequacy of resources. (up to 20 points)

(1) The Secretary considers the adequacy of resources for the proposed project.

(2) In determining the adequacy of resources for the proposed project, the Secretary considers the following factors:

(i) The adequacy of support, including facilities, equipment, supplies, and other resources, from the applicant organization or the lead applicant organization.

(ii) The extent to which the budget is adequate to support the proposed project.

(iii) The extent to which the costs are reasonable in relation to the number of persons to be served and to the anticipated results and benefits.

(iv) The potential for continued support of the project after Federal funding ends, including, as appropriate, the demonstrated commitment of appropriate entities to such support.

(g) Quality of the project evaluation. (up to 20 points)

(1) The Secretary considers the quality of the evaluation to be conducted of the proposed project.

(2) In determining the quality of the project evaluation to be conducted of the proposed project, the Secretary considers the following factors:

(i) The extent to which the methods of evaluation provide for examining the effectiveness of project implementation strategies.

(ii) The extent to which the methods of evaluation include the use of objective performance measures that are clearly related to the intended outcomes of the project and will produce quantitative and qualitative data to the extent possible.

(iii) The extent to which the methods of evaluation will provide performance feedback and permit periodic assessment of progress towards achieving intended outcomes.

(iv) The extent to which the evaluation will provide guidance about effective strategies suitable for replication or testing in other settings.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

A panel of three non-Federal reviewers will review and score each application in accordance with the selection criteria. A rank order funding slate will be made from this review. An award will be made in rank order according to the average score received from the combined peer review and competitive preference priority point grand total.

In a tie-breaking situation under this program, if a tie remains after applying any additional points from the competitive preference priority, preference will be given to the applicant with the highest score under the “Quality of the Project Design” criterion. If there is still a tie after implementing the first tiebreaker, preference will be given to the applicant with the highest score under the “Quality of the Project Services” criterion. If there is still a tie after applying the secondary tiebreaker, preference will be given to the applicant with the highest score on the “Quality of Management Plan” selection criterion.

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

6. Continuation Awards: In making a continuation award under 34 CFR 75.253, the Secretary considers, among other things: Whether a grantee has made substantial progress in achieving the goals and objectives of the project; whether the grantee has expended funds in a manner that is consistent with its approved application and budget; and if the Secretary has established performance measurement requirements, the performance targets in the grantee's approved application. In making a continuation award, the Secretary also considers whether the grantee is operating in compliance with the assurances in its approved application, including those applicable to Federal civil rights laws that prohibit discrimination in programs or activities receiving Federal financial assistance from the Department (34 CFR 100.4, 104.5, 106.4, 108.8, and 110.23).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 directs Federal departments and agencies to improve the effectiveness of their programs by engaging in strategic planning, setting outcome-related goals for programs, and measuring program results against those goals. To assess the success of the grantee in meeting these goals, the Secretary has established the following two performance measures for annually assessing the effectiveness of the PPSID-NTAD program:

(a) The percentage of inclusive comprehensive transition and postsecondary programs SWIDs assisted by the Center that use the technical assistance and/or best practices knowledge disseminated by the Center; and

(b) The percentage of SWIDs who are enrolled in programs assisted by the Center who complete the programs and obtain a meaningful credential, as defined by the Center and supported through empirical evidence.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-16832 Filed 8-4-21; 8:45 am]

BILLING CODE 4000-01-P